SURFACE TRANSPORTATION BOARD

[Docket No. FD 36709]

Naugatuck Railroad Company—Lease and Operation Exemption—Boston & Maine Corporation and Springfield Terminal Railway Company

Naugatuck Railroad Company (NAUG), a Class III rail carrier, has filed a verified notice of exemption under 49 CFR 1150.41 to lease from Boston & Maine Corporation (B&M) and acquire the right to operate from Springfield Terminal Railway Company (STR) as a common carrier over approximately 1,330 feet of rail line currently owned by B&M and operated by STR between a connection to the Torrington Branch at engineering station 0+00 and engineering station 13+30, all in New Haven County, Conn. (the Line).

According to the verified notice, NAUG has entered into a land and rail assets lease agreement with CSX Transportation, Inc. (CSXT), on behalf of B&M and STR, which are both subsidiaries of CSXT. The verified notice states that, upon consummation of the agreement, NAUG will lease and operate the Line. NAUG states that it currently operates over the Torrington Branch, an approximately 19.6-mile rail line that extends between NAUG milepost 0.0 in Waterbury, Conn., and NAUG milepost 19.6 in Torrington, Conn. See Naugatuck R.R.—Operation Exemption—State of Conn., FD 32793 (STB served Jan. 25, 1996).

NAUG certifies that its projected annual freight revenues will not result in the creation of a Class I or Class II rail carrier and will not exceed $5 million. NAUG also certifies that the agreement does not include an interchange commitment.

The transaction may be consummated on or after July 14, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 7, 2023 (at least seven days before the exemption becomes effective).

All pleadings, referring to Docket No. FD 36709, must be filed with the Surface Transportation Board either via e-filing on the Board's website or in writing addressed to 395 E Street SW, Washington, DC 20423-0001. In addition, a copy of each pleading must be served on NAUG's representative, John R. Gamm, John R. Gamm LLC, 32 Dutton Place Way, Glastonbury, CT 06033.

According to NAUG, this action is categorically excluded from environmental review under 49 CFR 1105.6(c) and from historic preservation reporting requirements under 49 CFR 1105.8(b).

Board decisions and notices are available at www.stb.gov.

Decided: June 26, 2023.
By the Board, Scott M. Zimmerman, Acting Director, Office of Proceedings.
Tammy Lowery,
Clearance Clerk.

[FR Doc. 2023-13938 Filed 6-29-23; 8:45 am]

BILLING CODE 4915-01-P